DEPARTMENT OF THE INTERIOR

Fish and Wildlife Service

[FWS-R1-ES-2022-0005; FXES11140100000-212-FF01E0000]

St. Martin's Habitat Conservation Plan and Categorical Exclusion for the Yelm Mazama Pocket Gopher, Thurston County, Washington

AGENCY: Fish and Wildlife Service, Interior.

ACTION: Notice of availability; request for comments.

SUMMARY: We, the U.S. Fish and Wildlife Service, received an application from Saint Martin's Abbey (applicant) for an incidental take permit (ITP) pursuant to the Endangered Species Act. The ITP would authorize the applicant's take of the Yelm subspecies of the Mazama pocket gopher, incidental to otherwise lawful construction and maintenance activities at Saint Martin's University in Thurston County, Washington. The application includes a habitat conservation plan (HCP) with measures to minimize and mitigate the impacts of the taking on the covered species. We have also prepared a draft environmental action statement for our preliminary determination that the HCP and our permit decision may be eligible for categorical exclusion under the National Environmental Policy Act. We provide this notice to open a public comment period and invite comments from all interested parties regarding the documents.

DATES: Please submit written comments by March 14, 2022.

ADDRESSES: To request further information or submit written comments, please use one of the following methods:

• Internet: You may view or download copies of the HCP, draft environmental action statement, and additional information at http://www.fws.gov/wafwo/. You may submit comments via http://www.regulations.gov. Follow the instructions for submitting comments on Docket No. FWS-R1-ES-2022-0005.

• Email: wfwocomments@fws.gov. Include “St. Martin's Abbey HCP” in the subject line of the message.

• U.S. Mail: Public Comments Processing; Attn: Docket No. FWS-R1-ES-2022-0005; U.S. Fish and Wildlife Service Headquarters, MS: PRB/3W; 5275 Leesburg Pike, Falls Church, VA 22041-3803.

FOR FURTHER INFORMATION CONTACT: Marty Acker, Section 10/NEPA Coordinator, Washington Fish and Wildlife Office, U.S. Fish and Wildlife Service (see ADDRESSES), telephone: 360-753-9440. If you use a telecommunications device for the deaf, please call the Federal Relay Service at 800-877-8339.

SUPPLEMENTARY INFORMATION: We, the U.S. Fish and Wildlife Service (Service), received an application for an incidental take permit (ITP) pursuant to section 10(a)(1)(B) of the Endangered Species Act of 1973, as amended (ESA; 16 U.S.C. 1531 et seq.). The ITP would authorize the applicant's “take” of the Yelm subspecies of the Mazama pocket gopher (Thomomys mazama yelmensis), listed as threatened under the ESA, incidental to otherwise lawful construction and maintenance activities at Saint Martin's University in Thurston County, Washington. The application includes a habitat conservation plan (HCP) that describes actions the applicant will take to minimize and mitigate the impacts of the taking on the Yelm pocket gopher (the covered species). We have also prepared a draft environmental action statement (EAS) for our preliminary determination that the HCP and our permit decision may be eligible for a categorical exclusion under the National Environmental Policy Act (NEPA; 42 U.S.C. 4321 et seq.). We provide this notice to open a public comment period and invite comments from all interested parties regarding the documents.

Background

Section 9 of the ESA prohibits “take” of fish and wildlife species listed as endangered or threatened. Under the ESA, the term “take” means to harass, harm, pursue, hunt, shoot, wound, kill, trap, capture, or collect, or to attempt to engage in any such conduct (16 U.S.C. 1532(19)). The term “harm,” as defined in our regulations, includes significant habitat modification or degradation that results in death or injury to listed species by significantly impairing essential behavioral patterns, including breeding, feeding, or sheltering (50 CFR 17.3).

Section 10(a)(1)(B) of the ESA contains provisions that authorize the Service to issue permits to non-Federal entities for the take of endangered and threatened species caused by otherwise lawful activities, provided the following criteria are met: (1) The taking will be incidental; (2) the applicant will, to the maximum extent practicable, minimize and mitigate the impact of such taking; (3) the applicant will ensure that adequate funding for the plan will be provided; (4) the taking will not appreciably reduce the likelihood of the survival and recovery of the species in the wild; and (5) the applicant will carry out any other measures that the Service may require as being necessary or appropriate for the purposes of the plan. Regulations governing permits for endangered and threatened species are found at 50 CFR 17.22 and 17.32, respectively.

Proposed Action

The applicant proposes to construct and maintain facilities on the existing Saint Martin's University campus in Thurston County, Washington. The HCP plan area is a 232-acre (ac) area. As described in the HCP, within the plan area, the 139-ac redevelopment area (permit area) contains 3.4 ac of occupied Yelm pocket gopher habitat, 1.4 ac of unoccupied Yelm pocket gopher habitat, 7.1 ac of landscaped trees and shrubs, 68.4 ac of developed buildings and infrastructure, and 0.7 ac of stormwater facilities, while the remaining 57.5 ac is forest, and not habitat. Proposed covered activities include construction within the 139-ac permit area during the 20-year permit term that may include construction and maintenance of up to six new buildings; replacement of existing buildings; construction and maintenance of associated parking lots, sidewalks, landscaping, storm water facilities, and utilities; and landscaping and management of athletic fields. The final number of buildings and activities are currently unknown, and building will be in response to University growth and student body needs, so the HCP describes the maximum amount of proposed construction and maintenance activity likely to occur during the permit term.

The proposed action is anticipated to impact up to 12 ac of Yelm pocket gopher habitat in the permit area. Due to differences in Yelm pocket gopher occupancy, the applicant has proposed a functional-ac system to quantify the impacts to the Yelm pocket gopher at the project site, based on the extent and permanence of impacts to ac of habitat. In this system, acreages are weighted according to Yelm pocket gopher occupancy, existing habitat quality, and land development. The resulting value is 4 functional ac of impact, out of the original 12 ac of Yelm pocket gopher habitat in the redevelopment area. The plan area also includes 26 ac of Yelm pocket gopher habitat outside of the redevelopment area on fields that are maintained by mowing.

The applicant proposes to mitigate for unavoidable impacts to Yelm pocket gopher by acquiring credits in the Service-approved Leitner Prairie conservation site, which is currently occupied by the Yelm pocket gopher. These credits will fully fund the permanent management, monitoring, and adaptive management on 4 ac of the Leitner Prairie conservation site. The conservation site will be managed for successful Yelm pocket gopher feeding, breeding, and sheltering.

In addition to mitigation at the conservation site, 26 ac of grassland habitat occupied by Yelm pocket gophers will be maintained on the project site by mowing during the 20-year permit term to provide additional mitigation. This mitigation offsets the impact of the taking attributable to the project site being located outside of the service area where the conservation site is located. Service areas are geographic areas we have defined to recognize possible differences between subpopulations within the range of the Yelm pocket gopher.

The Service proposes to issue the requested 20-year ITP based on the applicant's commitment to implement the HCP, if ESA section 10(a)(2)(B) permit issuance criteria are met.

Public Comments

You may submit your comments and materials by one of the methods listed in ADDRESSES. We specifically request information, views, and suggestions from interested parties regarding our proposed Federal action, including, without limitation, adequacy of the HCP, whether the HCP meets requirements for permits at 50 CFR parts 13 and 17, and adequacy of the EAS pursuant to the requirements of NEPA. We will post all comments on https://www.regulations.gov. This generally means that we will post online any personal information that you provide (see Public Availability of Comments under SUPPLEMENTARY INFORMATION). We request that you submit comments by only the methods described above.

Public Availability of Comments

All comments and materials we receive become part of the public record associated with this action. Before including your address, phone number, email address, or other personally identifiable information in your comments, you should be aware that your entire comment—including your personally identifiable information—may be made publicly available at any time. While you can ask us in your comment to withhold your personally identifiable information from public review, we cannot guarantee that we will be able to do so. All submissions from organizations or businesses, and from individuals identifying themselves as representatives or officials of organizations or businesses, will be made available for public disclosure in their entirety on https://www.regulations.gov.

Next Steps

After public review, we will evaluate the permit application, associated documents, and any comments received to determine whether the permit application meets the requirements of section 10(a)(2)(B) of the ESA. We will also evaluate whether issuance of the requested section 10(a)(1)(B) permit would comply with section 7 of the ESA by conducting an intra-Service section 7 consultation under section 7(a)(2) of the ESA on the proposed ITP action. The final NEPA and permit determinations will not be completed until after the end of the 30-day comment period; we will fully consider all comments received during the comment period. If we determine that all requirements are met, we will issue an ITP under section 10(A)(1)(B) of the ESA to the applicant for the take of the covered species, incidental to otherwise lawful covered activities.

Authority

We provide this notice in accordance with the requirements of section 10(c) of the ESA (16 U.S.C. 1531 et seq.) and its implementing regulations (50 CFR 17.32), and NEPA (42 U.S.C. 4321 et seq.) and its implementing regulations (40 CFR 1506.6 and 43 CFR 46.205).

Robyn Thorson,
Regional Director, Columbia-Pacific Northwest and Pacific Islands Regions, U.S. Fish and Wildlife Service.

[FR Doc. 2022-02932 Filed 2-10-22; 8:45 am]

BILLING CODE 4333-15-P